DEPARTMENT OF HEALTH AND HUMAN SERVICES

Centers for Disease Control and Prevention

[30Day-23-23EH]

Agency Forms Undergoing Paperwork Reduction Act Review

In accordance with the Paperwork Reduction Act of 1995, the Centers for Disease Control and Prevention (CDC) has submitted the information collection request titled “Public Health Emergency Management Capacity Assessment Tool (PHEM Tool)” to the Office of Management and Budget (OMB) for review and approval. CDC previously published a “Proposed Data Collection Submitted for Public Comment and Recommendations” notice on May 1, 2023 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Public Health Emergency Management Capacity Assessment Tool (PHEM Tool)—New—Office of Readiness and Response (ORR), Centers for Disease Control and Prevention (CDC).

Background and Brief Description

The Centers for Disease Control and Prevention's (CDC) Global Emergency Management Capacity Development (GEMCD) team strengthens emergency management capacity development globally. It helps countries to prepare for, anticipate, and respond to all forms of public health threats. GEMCD's mission is to build resilient Public Health Emergency Management (PHEM) programs throughout the world.

The GEMCD team's Emergency Management Technical Advisors (EMTAs) will use the PHEM Tool to guide an in-person interview with GHSA countries Ministry of Health, Public Health Emergency Operations Center (PHEOC) Manager and optional additional staff, to characterize the country's PHEM program and capabilities. EMTAs will document responses in an excel based form that will be entered into and maintained in the CDCReady data base. Collected data will identify strengths and weaknesses, capabilities, and gaps in PHEM programs and PHEOCs in GHSA countries. Findings will guide GEMCD team program planning initiatives and determine appropriate technical assistance (TA) for GHSA countries. Data will be analyzed to identify the presence or absence of specific PHEM and PHEOC requirements, such as plans, policies, and procedures, etc. Additional analysis will focus upon the status of PHEM and PHEOC plans, policies, and procedures, e.g., date of publication, relevance, etc. The survey will be conducted annually to identify progress and document changes from one year to the next in terms of PHEM program and PHEOC capabilities.

OMB approval is sought for three years. The estimated annualized burden for this information collection is 72 hours. There is no cost to respondents other than their time.

Estimated Annualized Burden Hours
Type of respondents | Form name | Number of respondents | Number of responses per respondent | Average burden per response (in hours)
Ministry of Health personnel responsible for Public Health Emergency Management (PHEM) Program in participating GHSA countries | PHEM Tool | 12 | 1 | 6

Jeffrey M. Zirger,
Lead, Information Collection Review Office, Office of Public Health Ethics and Regulations, Office of Science, Centers for Disease Control and Prevention.

[FR Doc. 2023-19707 Filed 9-12-23; 8:45 am]

BILLING CODE 4163-18-P